OFFICE OF PERSONNEL MANAGEMENT

Proposed Collection; Comment Request for Reclearance of Previously Approved Collections; SF 85, SF 85P, SF 85P-S, SF 86, SF 86A

AGENCY: U.S. Office of Personnel Management.

ACTION: Notice.

SUMMARY: In accordance with the Paperwork Reduction Act of 1995 (Public Law 104-13, May 2, 1995) and 5 CFR 1320.5(a)(1)(iv), this notice announces that OPM intends to submit to the Office of Management and Budget (OMB) a request for reclearance of five (5) information collections described below and solicits comments on them. Executive Order 12968 dated August 2, 1995, establishes a uniform Federal personnel security program. In addition, Executive Order 10450 requires an investigation appropriate to position sensitivity level.

The Standard Form 85, Questionnaire for Non-Sensitive Positions, is completed by appointees to non-sensitive duties with the Federal government. Information collected on this form is used by the Office of Personnel Management and by other Federal agencies to initiate the background investigations required to determine basic suitability for Federal employment in accordance with 5 U.S.C 3301, 3302 and 3304 and E.O. 10577 (5 CFR Rule V) as amended by E.O. 12107. The number of respondents annually who are not Federal appointees is expected to be 10 with total reporting hours of 5.

The Standard Form 85P, Questionnaire for Public Trust Positions, is completed by persons seeking placement in positions currently labeled “public trust” positions because of their enhanced responsibilities, and in certain sensitive positions, that do not require access to classified information. This information collection includes Standard Form 85P-S, Supplemental Questionnaire for Selected Positions. Information collected on the SF 85P and SF85 P-S is used by OPM and other Federal agencies to initiate background investigations required to determine suitability for placement in public trust or other sensitive, non-access positions in accordance with 5 U.S.C. 3301 and 3302, E.O. 10577 (5 CFR Rule V) as amended by E.O. 12107, and OMB Circular A-130, Management of Federal Information Resources, revised November 28, 2000. The number of respondents annually who are not Federal employees is expected to be 1500 with total reporting hours of 1500.

The Standard Form 86, Questionnaire for National Security Positions, is completed by persons performing or seeking to perform national security duties for the Federal government. This information collection also includes Standard Form 86A, Continuation Sheet for Questionnaires, SF86, SF85P and SF85, which is used to provide formatted space to continue answers to questions. Information collected is used by the Office of Personnel Management and by other Federal agencies to initiate the background investigations required to determine placement in national security positions in accordance with 42 U.S.C. 2165, E.O. 10450, Security Requirements for Government Employment, and E.O. 12968, Access to Classified Information. The number of respondents annually who are not Federal employees is expected to be 172,150 with total reporting hours of 258,225.

Comments are particularly invited on the following:

—Whether this collection of information is necessary for the proper performance of functions of the Office of Personnel Management, and whether it will have practical utility;

—Whether our estimate of the public burden of this collection of information is accurate and based on valid assumptions and methodology; and

—Ways in which we can minimize the burden of collection of information on those who respond through the use of appropriate technological collection techniques or other forms of information technology.

To obtain copies of this information, please contact Mary Beth Smith-Toomey at (202) 606-8358 or by e-mail at mbtoomey@opm.gov.

DATES: Comments on this proposal should be received on or before August 3, 2001.

ADDRESSES: Send or deliver written comments to: Richard A. Ferris, Associate Director, Investigations Service, Office of Personnel Management, 1900 E Street, NW Room 5416, Washington, DC 20415-4000.

FOR FURTHER INFORMATION CONTACT: Rasheedah I. Ahmad, Program Analyst, Investigations Service, OPM, (202) 606-7983 or fax (202) 606-2390.

Office of Personnel Management.
Steven R. Cohen,
Acting Director.

[FR Doc. 01-13920 Filed 6-1-01; 8:45 am]

BILLING CODE 6235-01-P